DEPARTMENT OF THE INTERIOR

Bureau of Land Management

[LLUTW01000-09-L14300000-ET0000-24-1A00; UTU 79765]

Public Land Order No. 7742; Withdrawal of Public Land for the Manning Canyon Tailings Repository; UT

AGENCY: Bureau of Land Management, Interior.

ACTION: Public Land Order.

SUMMARY: This order withdraws 109.43 acres of public land from location and entry under the United States mining laws for a period of 5 years to protect the integrity of the Manning Canyon Tailings Repository and surrounding drainage structures while the Bureau of Land Management completes land use planning for the area.

DATES: Effective Date: May 12, 2010.

FOR FURTHER INFORMATION CONTACT: Mike Nelson, BLM Salt Lake Field Office, 2370 South 2300 West, Salt Lake City, Utah 84119, 801-977-4355.

SUPPLEMENTARY INFORMATION: The purpose of the withdrawal is to protect public health and safety and the Federal investment in the Manning Canyon Tailings Repository. The Bureau of Land Management intends to evaluate the need for a lengthier withdrawal through the land use planning process.

Order

By virtue of the authority vested in the Secretary of the Interior by Section 204 of the Federal Land Policy and Management Act of 1976, 43 U.S.C. 1714, it is ordered as follows:

1. Subject to valid existing rights, the land described below is hereby withdrawn from location and entry under the United States mining laws, 30 U.S.C. 22 et seq., to protect the Manning Canyon Tailings Repository for a period of 5 years:

Salt Lake Meridian

T. 6 S., R. 3 W.,

Sec. 15, lots 12, 13, 14 and 17, W½NE¼SE¼, NE¼SW¼SE¼, NW¼SE¼SE¼, and that portion of Mineral Patent Nos. 27720, 28065, and 35708 located within the SW¼NE¼, E½SE¼NW¼, NE¼NE¼SW¼, and NW¼SE¼.

The areas described contain 109.43 acres in Utah County.

2. This withdrawal will expire 5 years from the effective date of this order unless, as a result of a review conducted before the expiration date pursuant to Section 204(f) of the Federal Land Policy and Management Act of 1976, 43 U.S.C. 1714(f), the Secretary determines that the withdrawal shall be extended.

Dated: April 28, 2010.
Wilma A. Lewis,
Assistant Secretary—Land and Minerals Management.

[FR Doc. 2010-11249 Filed 5-11-10; 8:45 am]

BILLING CODE P